DEPARTMENT OF HEALTH AND HUMAN SERVICES

Centers for Medicare & Medicaid Services

Notice of Single-Source Grant Award to Louisiana, Alabama, and Mississippi for a Project Entitled, “Deficit Reduction Act Hurricane Katrina Healthcare Related Provider Stabilization”

AGENCY: Centers for Medicare & Medicaid Services (CMS), HHS.

ACTION: New Grant Awards.

Funding Amount: $160,000,000.

Period of Performance: February 12, 2007-September 30, 2009.

SUMMARY: The Secretary has authorized a total of $160 million in grant funds available to all three States. Based on each eligible IPPS hospital's and SNF's share of total Medicare inpatient payments in the FEMA designated counties in calendar year 2005 (the latest and most complete year of Medicare billing data available to us), this funding is being allocated for each State in the following proportions: 45 percent to Louisiana ($71,633,492), 38 percent to Mississippi ($60,556,425) and 17 percent to Alabama ($27,810,083).

This grant program is to fund State payments to general, acute care hospitals, and skilled nursing facilities in impacted communities that may face financial pressures because of changing wage rates that are not yet reflected in Medicare PPS payment methodologies.

The grant funds must be used by the States to make payments to all Medicare participating general hospitals, acute care hospitals, and SNFs that are currently paid under a Medicare PPS in the impacted communities. States have some flexibility in determining the methodology to determine the timing and amount of provider payments, but the methodology must reflect each provider's share of total Medicare payments during a specified period of time. Grant funds may not be distributed to hospitals and SNFs that are not in operation. States' payment methodologies should specify the relevant time periods and any other factors that will be considered in distributing available grant funds according to the principles specified above, and are subject to approval by CMS.

Justification for Exception to Competition

The Secretary has invoked his authority to restore health care in impacted communities affected by Hurricane Katrina by offering this unique funding opportunity which will enable States to make payments to assist hospitals and SNFs that are paid under a Medicare PPS, with the financial pressures that may result from changing wage rates in those impacted communities. For the reasons cited above, the Secretary has directed the Centers for Medicare & Medicaid Services to offer a single-source award to the States of Louisiana, Alabama and Mississippi.

FOR FURTHER INFORMATION CONTACT: Wendy J. Taparanskas, PhD., Health Insurance Specialist, Office of the Center Director, Centers for Medicaid and State Operations, Centers for Medicare & Medicaid Services, Mail Stop S2-26-12, 7500 Security Boulevard, Baltimore, MD 21244, (410) 786-5245.

Authority: Section 6201(a)(4) of the Deficit Reduction Act of 2005 (DRA) .

(Catalog of Federal Domestic Assistance Program No. 93.779)

Dated: February 13, 2007.
Leslie V. Norwalk,
Acting Administrator, Centers for Medicare & Medicaid Services.

[FR Doc. E7-3655 Filed 3-1-07; 8:45 am]

BILLING CODE 4120-01-P